DEPARTMENT OF DEFENSE

Defense Acquisition Regulations System

48 CFR Part 246

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective April 3, 2014.

FOR FURTHER INFORMATION CONTACT: Mr. Manuel Quinones, Defense Acquisition Regulations System, OUSD (AT&L) DPAP (DARS), Room 3B855, 3060 Defense Pentagon, Washington, DC 20301-3060. Telephone 571-372-6088; facsimile 571-372-6094.

SUPPLEMENTARY INFORMATION:

This final rule amends the DFARS as follows:

1. Correct typographical error at 246.710(1)(ii).

List of Subjects in 48 CFR Part 246

Government procurement.

Manuel Quinones,
Editor, Defense Acquisition Regulations System.

Therefore, 48 CFR part 246 is amended as follows:

PART 246—QUALITY ASSURANCE

1. The authority citation for 48 CFR part 246 continues to read as follows:

Authority: 41 U.S.C. 1303 and 48 CFR chapter 1.

246.710 [Amended]

2. Section 246.710 paragraph (1)(ii) is amended by removing “alternate” and adding “alternate I” in its place.

[FR Doc. 2014-07398 Filed 4-2-14; 8:45 am]

BILLING CODE 5001-06-P